U.S. OFFICE OF PERSONNEL MANAGEMENT

Announcement of Public Meeting Transcript and Comment Period

AGENCY: U.S. Office of Personnel Management.

ACTION: Notice of transcript and public comment.

SUMMARY: The Office of Personnel Management held a public hearing on June 25, 2010, on issues concerning pathways to Federal jobs for students and recent graduates. The transcript from the hearing is now available at http://www.chcoc.gov/documents/DisplayDocument.aspx?PublicDocID=195. Members of the public are welcome to provide any further comments on issues raised at the hearing.

DATES: Members of the public wishing to submit written statements must submit such statements by September 29, 2010.

ADDRESSES: Send written statements to Ms. Angela Bailey, Deputy Associate Director for Recruitment and Diversity, 1900 E Street, NW., Room 6500, Washington, DC 20415 or hiringevent@opm.gov.

FOR FURTHER INFORMATION CONTACT: Ms. Juanita Wheeler. She can be reached on 202-606-2660 or at Juanita.Wheeler@opm.gov.

SUPPLEMENTARY INFORMATION: On May 11, 2010, President Obama issued a Memorandum for the Heads of Executive Departments and Agencies in which he stated that “the Federal Government must recruit and hire highly qualified employees and public service should be a career of choice for the most talented Americans.” This public meeting was one phase of that initiative.

The purpose of this meeting was (1) to hear and consider views on whether normal, competitive hiring is an effective avenue for bringing recent college graduates into the Federal workforce and, if so, why that is the case; (2) to ascertain from those who believe that it is not effective, whether this presents a problem for the Federal Government that is sufficiently significant to warrant action or changes to policy; and (3) if action or changes in policy are warranted, to determine what change should be effected and by whom. The transcripts from that public hearing are now available at http://www.chcoc.gov/documents/DisplayDocument.aspx?PublicDocID=195. Members of the public are invited to provide any further comments they wish addressing the three issues presented above, and, in particular, to respond to comments made at the hearing. You may submit your written comments to Ms. Angela Bailey, Deputy Associate Director for Recruitment and Diversity, on or before September 29, 2010, to the address listed above. Please limit your statements to no more than five pages. All written statements and oral presentations will become part of the record of proceedings and deliberations.

U.S. Office of Personnel Management.
John Berry,
Director.

[FR Doc. 2010-22909 Filed 9-14-10; 8:45 am]

BILLING CODE 6325-39-P